DEPARTMENT OF THE INTERIOR

Bureau of Indian Affairs

25 CFR Part 11

[BIA-2013-0001; 134/A0J351010.999900/AAKL008000]

RIN 1076-AF16

Courts of Indian Offenses

AGENCY: Bureau of Indian Affairs, Interior.

ACTION: Final rule.

SUMMARY: The Bureau of Indian Affairs (BIA) is confirming the interim final rule published and effective on March 3, 2013, addressing the addition of two Indian tribes to the list of tribes with Courts of Indian Offenses (also known as CFR Courts), and deletion of five tribes from those under the jurisdiction of CFR Courts. The March 3, 2013, publication stated that the BIA would review comments on the interim final rule and either confirm the rule or initiate a proposed rulemaking. BIA did not receive any comments, and therefore confirms the rule without change.

DATES: Effective August 13, 2013.

FOR FURTHER INFORMATION CONTACT: Elizabeth Appel, Acting Director, Office of Regulatory Affairs & Collaborative Action, (202) 273-4680; elizabeth.appel@bia.gov.

SUPPLEMENTARY INFORMATION: This rule revises a section of 25 CFR part 11 to add the following Indian tribes to the list of tribes with established Courts of Indian Offenses (also known as CFR Courts): The Seneca-Cayuga Tribe and the Skull Valley Band of Goshute Indians. Adding these tribes will allow for the administration of justice until the added tribes put into effect a law-and-order code that establishes a court system that meets regulatory requirements or until the tribe adopts a legal code and establishes a judicial system in accordance with its constitution and bylaws or other governing documents.

The rule also revises a section of 25 CFR 11.100(c) to remove five tribes from the list of those with established CFR Courts. The tribes removed from the list are the Seminole Nation, the Miami Tribe, the Wyandotte Tribe, the Choctaw Nation of Oklahoma, and the Quapaw Tribe of Indians.

On March 3, 2013, we published an interim final rule with a request for comment at 78 FR 14017. We stated in the interim final rule that we would review any comments received and, by a future publication, address any comments received and either confirm the interim final rule with or without change or initiate a proposed rulemaking. We received no comments on the interim final rule.

Therefore, the interim rule published March 3, 2013, at 78 FR 14017, is confirmed as final without change.

Dated: August 1, 2013.
Kevin K. Washburn,
Assistant Secretary—Indian Affairs.

[FR Doc. 2013-19596 Filed 8-12-13; 8:45 am]

BILLING CODE 4310-W7-P